DEPARTMENT OF TRANSPORTATION

Office of the Secretary

Aviation Proceedings, Agreements Filed the Week Ending August 13, 2004

The following Agreements were filed with the Department of Transportation under the provisions of 49 U.S.C. sections 412 and 414. Answers may be filed within 21 days after the filing of the application.

Docket Number: OST-2004-18873.

Date Filed: August 10, 2004.

Parties: Members of the International Air Transport Association.

Subject: PTC2 EUR-ME 0187 dated 9 July 2004. TC2 Europe-Middle East Resolutions r1-r22. Minutes: PTC2 EUR-ME 0192 dated 10 August 2004. Tables: PTC2 EUR-ME Fares 0093 dated 9 July 2004. Corrects: PTC2 EUR-ME Fares 0094 dated 23 July 2004. Intended effective date: 1 January 2004.

Docket Number: OST-2004-18901.

Date Filed: August 13, 2004.

Parties: Members of the International Air Transport Association.

Subject: PTC1 0298 dated 13 August 2004. TC1 Longhaul (except between USA and Chile, Panama) Expedited Resolution. PTC1 0299 dated 13 August 2004. TC1 Within South America Expedited Resolutions r1-r4. Intended effective date: 15 September 2004.

Docket Number: OST-2004-18902.

Date Filed: August 13, 2004.

Parties: Members of the International Air Transport Association.

Subject: PTC3 0774 dated 13 August 2004. Mail Vote 402—Resolution 010t—Special Passenger Amending Resolution between Chinese Taipei and Japan r1-r9. Intended effective date: 1 September 2004.

Andrea M. Jenkins,
Program Manager, Docket Operations, Federal Register Liaison.

[FR Doc. 04-19453 Filed 8-24-04; 8:45 am]

BILLING CODE 4910-62-P